DEPARTMENT OF THE INTERIOR

Bureau of Land Management

[LLCOS000000-L10200000-212L1109AF]

Notice of Public Meetings of the Southwest Colorado Resource Advisory Council

AGENCY: Bureau of Land Management, Interior.

ACTION: Notice of public meetings.

SUMMARY: In accordance with the Federal Land Policy and Management Act of 1976 and the Federal Advisory Committee Act of 1972, the U.S. Department of the Interior, Bureau of Land Management (BLM) Southwest Colorado Resource Advisory Council (RAC) will meet as indicated below.

DATES: The RAC will conduct a field trip on Wednesday, October 20, 2021, from 8 a.m. to 4 p.m. The RAC will hold a business meeting on Thursday, October 21, 2021, from 10 a.m. to 3:30 p.m. The field trip and business meeting are open to the public.

ADDRESSES: If Centers for Disease Control and Prevention (CDC) COVID-19 guidelines preclude on-site meetings, the field trip will be cancelled. The Thursday, October 21 meeting will be held virtually via Zoom. The meeting link and participation instructions will be made available to the public via news media, social media, and the BLM Colorado website at: https://www.blm.gov/get-involved/resource-advisory-council/near-you/colorado/southwest-rac.

The field tour is to the Alpine Loop Scenic and Historic Byway outside Silverton, Colorado, and participants will start the trip at the San Juan Public Lands Center, 15 Burnett Ct, Durango, CO 81301.

FOR FURTHER INFORMATION CONTACT: Shawn Reinhardt, Public Affairs Specialist; BLM Southwest District Office, 2465 S Townsend Ave., Montrose, CO 81401; telephone: (970) 240-5339; email: sreinhardt@blm.gov. Persons who use a telecommunications device for the deaf (TDD) may call the Federal Relay Service (FRS) at 1-800-877-8339 to contact Mr. Reinhardt during normal business hours. The FRS is available 24 hours a day, 7 days a week, to leave a message or question. You will receive a reply during normal business hours.

SUPPLEMENTARY INFORMATION: The 15-member Southwest Colorado RAC advises the Secretary of the Interior, through the BLM, on a variety of public-land issues in the Southwest District, including the Uncompahgre, Tres Rios, and Gunnison Field Offices. On October 20, the RAC will tour sites along the Alpine Loop Scenic and Historic Byway, one of the most popular sites within the Southwest District, to learn about resource complexities. Members of the public are welcome to participate in the field tour but must provide their own transportation and meals. The field tour will follow current CDC COVID-19 guidance regarding social distancing and wearing of masks.

Agenda items for the October 21 business meeting include resource and recreation management, travel management plans, a fuels reduction project, and field office updates. The meetings are open to the public and will adhere to applicable CDC protocols regarding COVID-19. A public-comment period will be held during the business meeting at 1:30 p.m. Contingent on the number of people who wish to comment during the public-comment period, individual comments may be limited. The public may present written comments to the Southwest Colorado RAC prior to the meeting. Please include “RAC Comment” in your submission. Before including your address, phone number, email address, or other personal identifying information in your comment, you should be aware that your entire comment—including your personal identifying information—may be made publicly available at any time. While you can ask us in your comment to withhold your personal identifying information from public review, we cannot guarantee that we will be able to do so.

Individuals who plan to attend and need special assistance, such as sign language interpretation and other reasonable accommodations, should contact the BLM (see FOR FURTHER INFORMATION CONTACT), and participants must RSVP at least 2 weeks in advance.

Summary minutes for the RAC meetings will be maintained in the Southwest District Office and will be available for public inspection and reproduction during regular business hours within 30 days following the meeting. Previous minutes and agendas are available at: https://www.blm.gov/get-involved/resource-advisory-council/near-you/colorado/southwest-rac.

(Authority: 43 CFR 1784.4-2)

Jamie E. Connell,
BLM Colorado State Director.

[FR Doc. 2021-20314 Filed 9-20-21; 8:45 am]

BILLING CODE 4310-JB-P